DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Ashley County, Arkansas, and Incorporated Areas
Docket No.: FEMA-B-1085
Snake Creek | Approximately 1,400 feet downstream of Main Street | +131 | City of Crossett.
| Approximately 1,200 feet downstream of Main Street | +131
* National Geodetic Vertical Datum.
+ North American Vertical Datum.
# Depth in feet above ground.
‸ Mean Sea Level, rounded to the nearest 0.1 meter.
ADDRESSES
City of Crossett
Maps are available for inspection at City Hall, 201 Main Street, Crossett, Arkansas 71635.
Garrard County, Kentucky, and Incorporated Areas
Docket No.: FEMA-B-1111
Canoe Creek (backwater effects from Kentucky River) | From the confluence with the Kentucky River to approximately 0.6 mile upstream of the confluence with the Kentucky River | +567 | Unincorporated Areas of Garrard County.
Davis Creek (backwater effects from Kentucky River) | From the confluence with the Kentucky River to approximately 0.4 mile upstream of the confluence with the Kentucky River | +570 | Unincorporated Areas of Garrard County.
Dix River (backwater effects from Kentucky River) | From the confluence with the Kentucky River to approximately 269 feet downstream of the confluence with Dix River Tributary 82 | +553 | Unincorporated Areas of Garrard County.
Kentucky River | At the confluence with the Dix River | +553 | Unincorporated Areas of Garrard County.
| At the confluence with Paint Lick Creek | +573
Kentucky River Tributary 40 (backwater effects from Kentucky River) | From the confluence with the Kentucky River to approximately 932 feet upstream of Old Lexington Road East | +565 | Unincorporated Areas of Garrard County.
Paint Lick Creek (backwater effects from Kentucky River) | From the confluence with the Kentucky River to approximately 1.9 miles upstream of the confluence with the Kentucky River | +573 | Unincorporated Areas of Garrard County.
Scotch Fork (backwater effects from Kentucky River) | From the confluence with Sugar Creek to approximately 656 feet downstream of Poor Ridge Pike | +570 | Unincorporated Areas of Garrard County.
Sugar Creek (backwater effects from Kentucky River) | From the confluence with the Kentucky River to approximately 0.7 mile upstream of the confluence with Scotch Fork | +570 | Unincorporated Areas of Garrard County.
White Oak Creek (backwater effects from Kentucky River) | From the confluence with the Kentucky River to approximately 0.7 mile upstream of the confluence with the Kentucky River | +563 | Unincorporated Areas of Garrard County.
* National Geodetic Vertical Datum.
+ North American Vertical Datum.
# Depth in feet above ground.
‸ Mean Sea Level, rounded to the nearest 0.1 meter.
ADDRESSES
Unincorporated Areas of Garrard County
Maps are available for inspection at 15 Public Square, Lancaster, KY 40444.
McLean County, Kentucky, and Incorporated Areas
Docket No.: FEMA-B-1111
Black Lake Creek (backwater effects from Green River) | From the confluence with Cypress Creek to approximately 1 mile upstream of Coffman Schoolhouse Road | +393 | Unincorporated Areas of McLean County.
Buck Creek (backwater effects from Green River) | From the confluence with West Fork Buck Creek to approximately 275 feet upstream of Atherton Road | +391 | Unincorporated Areas of McLean County.
Cypress Creek Tributary 32 (backwater effects from Green River) | From the confluence with Cypress Creek to approximately 2 miles upstream of the confluence with Cypress Creek | +393 | Unincorporated Areas of McLean County.
Cypress Creek Tributary 36 (backwater effects from Green River) | From the confluence with Cypress Creek to approximately 1.8 miles upstream of KY-85 | +391 | Unincorporated Areas of McLean County.
Cypress Creek Tributary 59 (backwater effects from Green River) | From the confluence with Cypress Creek to approximately 490 feet upstream of Bell Road | +389 | Unincorporated Areas of McLean County.
Delaware Creek (backwater effects from Ohio River) | From the confluence with the Green River to approximately 380 feet upstream of KY-593 | +386 | Unincorporated Areas of McLean County.
Green River | Approximately 1.9 miles downstream of the confluence with Green River Tributary 33 | +387 | City of Livermore, Town of Calhoun, Unincorporated Areas of McLean County.
| Approximately 2.5 miles downstream of KY-85 | +393
Green River Tributary 19 (backwater effects from Green River) | From the confluence with the Green River to approximately 0.73 mile downstream of KY-136 | +389 | Unincorporated Areas of McLean County.
Green River Tributary 27 (backwater effects from Green River) | From the confluence with the Green River to approximately 1,270 feet upstream of KY-256 | +388 | Unincorporated Areas of McLean County.
Green River Tributary 33 (backwater effects from Green River) | From the confluence with the Green River to approximately 1.1 miles upstream of the confluence with the Green River | +387 | Unincorporated Areas of McLean County.
Hanley Creek (backwater effects from Green River) | From the confluence with the Green River to approximately 0.54 mile upstream of KY-136 | +390 | Unincorporated Areas of McLean County.
Long Falls Creek (backwater effects from Green River) | From the confluence with the Green River to approximately 2,330 feet upstream of KY-815 | +389 | Unincorporated Areas of McLean County.
Long Falls Creek Tributary 18 (backwater effects from Green River) | From the confluence with Long Falls Creek to approximately 0.59 mile upstream of the confluence with Long Falls Creek | +389 | Unincorporated Areas of McLean County.
Long Falls Creek Tributary 22 (backwater effects from Green River) | From the confluence with Long Falls Creek to approximately 2,400 feet downstream of KY-140 | +389 | Unincorporated Areas of McLean County.
Long Falls Creek Tributary 23 (backwater effects from Green River) | From the confluence with Long Falls Creek to approximately 0.88 mile upstream of Leachman Schoolhouse Road | +389 | Unincorporated Areas of McLean County.
Pond Drain (backwater effects from Green River) | From the confluence with Pond Drain Tributary 1 to approximately 1.3 miles upstream of the confluence with Pond Drain Tributary 1 | +390 | Unincorporated Areas of McLean County.
Pond Drain Tributary 1 (backwater effects from Green River) | From the confluence with Pond Drain to approximately 656 feet downstream of Adams Schoolhouse Road | +389 | Unincorporated Areas of McLean County.
Pond Drain Tributary 2 (backwater effects from Green River) | From the confluence with Pond Drain to approximately 400 feet upstream of KY-81 | +390 | Unincorporated Areas of McLean County.
Pond Drain Tributary 2.1 (backwater effects from Green River) | From the confluence with Pond Drain Tributary 2 to approximately 1,890 feet upstream of the confluence with Pond Drain Tributary 2 | +390 | Unincorporated Areas of McLean County.
Pond River Tributary 107 (backwater effects from Green River) | From the county boundary to approximately 266 feet downstream of Branch Schoolhouse Road | +389 | Unincorporated Areas of McLean County.
West Fork Buck Creek (backwater effects from Green River) | From the confluence with the Green River to approximately 2,200 feet downstream of KY-250 | +390 | Unincorporated Areas of McLean County.
West Fork Buck Creek Tributary 10 (backwater effects from Green River) | From the confluence with West Fork Buck Creek to 0.6 mile upstream of the confluence with West Fork Buck Creek | +390 | Unincorporated Areas of McLean County.
Yellow Creek (backwater effects from Green River) | From the confluence with Yellow Creek Tributary 6 to 0.65 mile upstream of the confluence with Yellow Creek Tributary 6 | +388 | Unincorporated Areas of McLean County.
Yellow Creek Tributary 6 (backwater effects from Green River) | From the confluence with Yellow Creek to approximately 1,265 feet upstream of the confluence with Yellow Creek | +388 | Unincorporated Areas of McLean County.
* National Geodetic Vertical Datum.
+ North American Vertical Datum.
# Depth in feet above ground.
‸ Mean Sea Level, rounded to the nearest 0.1 meter.
ADDRESSES
City of Livermore
Maps are available for inspection at 105 West 3rd Street, Livermore, KY 42352.
Town of Calhoun
Maps are available for inspection at 325 West 2nd Street, Calhoun, KY 42327.
Unincorporated Areas of McLean County
Maps are available for inspection at 210 Main Street, Calhoun, KY 42327.
Rowan County, Kentucky, and Incorporated Areas
Docket No.: FEMA-B-1110
Cave Run Lake | Entire shoreline within community | +765 | Unincorporated Areas of Rowan County.
Ramey Creek (backwater effects from Cave Run Lake) | From the confluence with Cave Run Lake to approximately 1,940 feet upstream of the confluence with Cave Run Lake | +765 | Unincorporated Areas of Rowan County.
Scott Creek (backwater effects from Cave Run Lake) | From the confluence with Cave Run Lake to approximately 0.9 mile upstream of KY-801 | +765 | Unincorporated Areas of Rowan County.
Warix Run (backwater effects from Cave Run Lake) | From the confluence with Cave Run Lake to approximately 1,720 feet upstream of the confluence with Cave Run Lake | +765 | Unincorporated Areas of Rowan County.
* National Geodetic Vertical Datum.
+ North American Vertical Datum.
#Depth in feet above ground.
‸ Mean Sea Level, rounded to the nearest 0.1 meter.
ADDRESSES
Unincorporated Areas of Rowan County
Maps are available for inspection at 627 East Main Street, Morehead, KY 40351.
Andrew County, Missouri, and Incorporated Areas
Docket No.: FEMA-B-1087
Missouri River | Approximately 1,250 feet upstream of the Buchanan County boundary | +825 | City of Amazonia, Unincorporated Areas of Andrew County.
| Approximately 1,200 feet downstream of the Doniphan County boundary | +833
* National Geodetic Vertical Datum.
+ North American Vertical Datum.
# Depth in feet above ground.
‸ Mean Sea Level, rounded to the nearest 0.1 meter.
ADDRESSES
City of Amazonia
Maps are available for inspection at 441 Spring Street, Amazonia, MO 64421.
Unincorporated Areas of Andrew County
Maps are available for inspection at 410 Court Street, Savannah, MO 64485.
Perry County, Ohio, and Incorporated Areas
Docket No.: FEMA-B-1085
Black Fork (backwater effects from Moxahala Creek) | At the upstream side of Ceramic Road | +755 | Unincorporated Areas of Perry County.
| At the confluence with Moxahala Creek | +755
Brehm Run | At the confluence with Center Branch Rusk Creek | +824 | Unincorporated Areas of Perry County.
| Approximately 1,640 feet upstream of Toll Gate Road | +838
Buckeye Lake | Entire shoreline | +893 | Unincorporated Areas of Perry County.
Center Branch Rush Creek | At the confluence with Rush Creek | +811 | Unincorporated Areas of Perry County.
| Approximately 0.9 mile upstream of State Route 668 | +856
Clark Run | Approximately 0.7 mile downstream of the confluence with Salem Run | +805 | Unincorporated Areas of Perry County.
| Approximately 0.9 mile upstream of Mainesville Road | +819
Jonathan Creek | Approximately 900 feet downstream of Main Street | +843 | Unincorporated Areas of Perry County.
| Approximately 830 feet upstream of State Route 204 | +847
Lideys Run | At the confluence with Center Branch Rush Creek | +813 | Unincorporated Areas of Perry County.
| Approximately 220 feet upstream of Pen Road | +817
Moxahala Creek | At the confluence with Black Fork | +755 | Unincorporated Areas of Perry County, Village of Crooksville.
| Approximately 1,380 feet upstream of State Route 669 | +760
Rush Creek | Approximately 1.0 mile downstream of Flagdale Road | +803 | Unincorporated Areas of Perry County.
| Approximately 240 feet downstream of the confluence with Center Branch Rush Creek | +810
Salem Run | At the confluence with Clark Run | +806 | Unincorporated Areas of Perry County.
| Approximately 0.6 mile upstream of Flagdale Road | +824
Sunday Creek | Approximately 0.8 mile downstream of Main Street | +724 | Unincorporated Areas of Perry County, Village of Corning.
| Approximately 890 feet upstream of Adams Street | +735
West Branch Sunday Creek | Approximately 1,760 feet downstream of Main Street | +760 | Unincorporated Areas of Perry County, Village of Hemlock.
| Approximately 1,700 feet upstream of Main Street | +767
* National Geodetic Vertical Datum.
+ North American Vertical Datum.
# Depth in feet above ground.
‸ Mean Sea Level, rounded to the nearest 0.1 meter.
ADDRESSES
Unincorporated Areas of Perry County
Maps are available for inspection at 109-A East Gay Street, Somerset, OH 43783.
Village of Corning
Maps are available for inspection at 115 South Corning Avenue, Corning, OH 43730.
Village of Crooksville
Maps are available for inspection at 98 South Buckeye Street, Crooksville, OH 43731.
Village of Hemlock
Maps are available for inspection at 8810 Main Street Southeast, Hemlock, OH 43730.
Sandusky County, Ohio, and Incorporated Areas
Docket No.: FEMA-B-1085
Flag Run | Approximately 0.4 mile downstream of North Broadway Street | +669 | Unincorporated Areas of Sandusky County, Village of Green Springs.
| Approximately 1,700 feet downstream of North Broadway Street | +670
Portage River | Approximately 0.7 mile downstream of the railroad | +625 | Unincorporated Areas of Sandusky County.
| Approximately 1,800 feet downstream of the railroad | +626
| Approximately 1,300 feet upstream of South Cherry Street | +631
| Approximately 0.5 mile upstream of South Cherry Street | +632
Sandusky River | Approximately 1,800 feet upstream of U.S. Route 20 | +586 | City of Fremont.
| Approximately 0.4 mile downstream of Tiffin Road | +596
Victoria Creek | Approximately 200 feet upstream of Fort Findlay Road | +629 | Village of Woodville.
| Approximately 100 feet downstream of Grand Avenue | +629
* National Geodetic Vertical Datum.
+ North American Vertical Datum.
# Depth in feet above ground.
‸ Mean Sea Level, rounded to the nearest 0.1 meter.
ADDRESSES
City of Fremont
Maps are available for inspection at 323 South Front Street, Fremont, OH 43420.
Unincorporated Areas of Sandusky County
Maps are available for inspection at 606 West State Street, Fremont, OH 43420.
Village of Green Springs
Maps are available for inspection at 120 Catherine Street, Green Springs, OH 44836.
Village of Woodville
Maps are available for inspection at 219 West Main Street, Woodville, OH 43469.
Scioto County, Ohio, and Incorporated Areas
Docket No.: FEMA-B-1085
Bonser Run (backwater effects from Ohio River) | Approximately 1,240 feet upstream of Milldale Road | +538 | Unincorporated Areas of Scioto County.
| Approximately 620 feet upstream of Elliot Hill Road | +538
Candy Run (backwater effects from Scioto River) | At the confluence with the Scioto River | +535 | Unincorporated Areas of Scioto County.
| Approximately 0.5 mile upstream of Huston Hollow-Long Run Road | +535
Duck Run (backwater effects from Scioto River) | Approximately 547 feet upstream of Duck Run-Otway Road | +535 | Unincorporated Areas of Scioto County.
| Just downstream of McDermott Pond Creek Road | +535
Lick Run (backwater effects from Ohio River) | Approximately 0.5 mile upstream of State Route 522 | +538 | Unincorporated Areas of Scioto County.
| At the confluence with Pine Creek | +538
Little Scioto River (backwater effects from Ohio River) | Approximately 4.6 miles upstream of Dixon Mill Road | +538 | Unincorporated Areas of Scioto County.
| Approximately 447 feet upstream of Slocum Avenue | +538
Little Scioto River Tributary 3 (backwater effects from Ohio River) | At the confluence with the Little Scioto River | +538 | Unincorporated Areas of Scioto County.
| Approximately 680 feet upstream of Chesapeake-Ohio Railway | +538
Munn Run | Just upstream of U.S. Route 52 Westbound (Gallia Street) | +536 | City of Portsmouth, Village of New Boston.
| Approximately 860 feet upstream of Valley Street | +551
Oven Lick Run (backwater effects from Ohio River) | Approximately 0.4 mile upstream of State Route 140 | +538 | Unincorporated Areas of Scioto County.
| At the confluence with Wards Run | +538
Scioto Brush Creek (backwater effects from Scioto River) | Approximately 840 feet downstream of McDermott Pond Creek Road | +535 | Unincorporated Areas of Scioto County.
| Approximately 0.5 mile downstream of State Route 104 | +535
Swaugar Valley Run (backwater effects from Ohio River) | Approximately 1,250 feet downstream of Elliot Hill Road | +538 | Unincorporated Areas of Scioto County.
| Approximately 1,200 feet upstream of Elliot Hill Road | +538
Swaugar Valley Run Tributary 1 (backwater effects from Ohio River) | At the confluence with Swaugar Valley Run | +538 | Unincorporated Areas of Scioto County.
| Approximately 600 feet upstream of Swaugar Valley Road | +538
Wards Run (backwater effects from Ohio River) | At the confluence with the Little Scioto River | +538 | Unincorporated Areas of Scioto County.
| Approximately 0.7 mile upstream of State Route 140 | +538
* National Geodetic Vertical Datum.
+ North American Vertical Datum.
# Depth in feet above ground.
‸ Mean Sea Level, rounded to the nearest 0.1 meter.
ADDRESSES
City of Portsmouth
Maps are available for inspection at 728 2nd Street, Portsmouth, OH 45662.
Unincorporated Areas of Scioto County
Maps are available for inspection at 617 Court Street, Portsmouth, OH 45662.
Village of New Boston
Maps are available for inspection at 3980 Rhodes Avenue, New Boston, OH 45662.
Caddo County, Oklahoma, and Incorporated Areas
Docket No.: FEMA-B-1091
Deer Creek East Tributary | Approximately 250 feet upstream of N2480 Road | +1484 | Unincorporated Areas of Caddo County.
| Approximately 1,700 feet upstream of N2480 Road | +1503
* National Geodetic Vertical Datum.
+ North American Vertical Datum.
# Depth in feet above ground.
‸ Mean Sea Level, rounded to the nearest 0.1 meter.
ADDRESSES
Unincorporated Areas of Caddo County
Maps are available for inspection at the Caddo County Courthouse, 201 West Oklahoma Avenue, Room 11, Anadarko, OK 73005.
Denton County, Texas, and Incorporated Areas
Docket No.: FEMA-B-7740 and B-1083
Cooper Creek | Approximately 2 feet upstream of North Mayhill Road | +570 | City of Denton, Unincorporated Areas of Denton County.
| Approximately 570 feet downstream of Mingo Road | +585
| Approximately 586 feet downstream of East Sherman Drive | +628
| Approximately 5 feet downstream of North Locust Street | +652
Dudley Branch | Approximately 2,455 feet downstream of Indian Road | +449 | City of Carrollton, Town of Hebron.
| Approximately 2,600 feet downstream of Standridge Drive | +501
Fletcher Branch | Approximately 10 feet downstream of Hickory Creek Road | +555 | City of Denton, Unincorporated Areas of Denton County.
| Approximately 360 feet upstream of El Paso Street | +612
Furneaux Creek | Approximately 1,320 feet upstream of Old Denton Road | +464 | City of Carrollton, City of Plano, Town of Hebron.
| Approximately 115 feet upstream of East Hebron Parkway | +549
Indian Creek | Approximately 180 feet downstream of Hebron Parkway | +463 | City of Carrollton, City of Lewisville, City of Plano, City of The Colony, Town of Hebron, Unincorporated Areas of Denton County.
| Approximately 2,940 feet upstream of East Old Denton Road | +477
Stream 6E1 | Approximately 980 feet downstream of North Josey Lane | +485 | City of Carrollton, City of Dallas.
| Approximately 1,095 feet upstream of East Frankford Road | +524
Timber Creek | Approximately 4,925 feet downstream of Hebron Parkway | +450 | City of Lewisville, Town of Double Oak, Town of Flower Mound.
| Approximately 295 feet upstream of South Woodland Trail | +626
* National Geodetic Vertical Datum.
+ North American Vertical Datum.
# Depth in feet above ground.
‸ Mean Sea Level, rounded to the nearest 0.1 meter.
ADDRESSES
City of Carrollton
Maps are available for inspection at 1945 East Jackson Road, Carrollton, TX 75006.
City of Dallas
Maps are available for inspection at 320 East Jefferson Boulevard, Room 321, Dallas, TX 75203.
City of Denton
Maps are available for inspection at 215 East McKinney Street, Denton, TX 76201.
City of Lewisville
Maps are available for inspection at 1197 West Main Street, Lewisville, TX 75067.
City of Plano
Maps are available for inspection at 1520 Avenue K, Plano, TX 75086.
City of The Colony
Maps are available for inspection at 5151 North Colony Boulevard, The Colony, TX 75056.
Town of Double Oak
Maps are available for inspection at 1100 Cross Timber Drive, Double Oak, TX 75067.
Town of Flower Mound
Maps are available for inspection at 2121 Cross Timbers Road, Flower Mound, TX 75028.
Town of Hebron
Maps are available for inspection at 4624 Charles Street, Carrollton, TX 75010.
Unincorporated Areas of Denton County
Maps are available for inspection at 306 North Loop 288, Suite 115, Denton, TX 76201.

(Catalog of Federal Domestic Assistance No. 97.022, “Flood Insurance.”)

Dated: January 11, 2011.
Edward L. Connor,
Acting Federal Insurance and Mitigation Administrator, Mitigation, Department of Homeland Security, Federal Emergency Management Agency.

[FR Doc. 2011-1058 Filed 1-19-11; 8:45 am]

BILLING CODE 9110-12-P